SOCIAL SECURITY ADMINISTRATION

[Docket No. SSA-2016-0036]

Request for Information on Strategies for Improving Work Outcomes for Individuals With Musculoskeletal Disabilities

AGENCY: Social Security Administration.

ACTION: Request for information.

SUMMARY: The Bipartisan Budget Act of 2015 amended section 234 of the Social Security Act, which authorizes us to plan and implement new demonstration projects that waive certain Social Security Disability Insurance (SSDI) program requirements in order to evaluate strategies for improving work outcomes for SSDI beneficiaries and applicants. This request for information (RFI) seeks public input on possible demonstration projects designed to improve employment and earnings outcomes for individuals with musculoskeletal impairments. The input we receive will inform our deliberations about the possible design of a future demonstration project using the section 234 authority.

DATES: Comments must be received by November 18, 2016.

ADDRESSES: You may submit comments by any one of three methods—Internet, fax, or mail. Do not submit the same comments multiple times or by more than one method. Regardless of which method you choose, please state that your comments refer to Docket No. SSA-2016-0036 so that we may associate your comments with the correct docket.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the “Search” function to find docket number SSA-2016-0036. The system will issue a tracking number to confirm your submission. You will not be able to view your comment immediately because we must post each comment manually. It may take up to a week for your comment to be viewable.

2. Fax: Fax comments to (410) 966-2830.

3. Mail: Mail your comments to the Office of Regulations and Reports Clearance, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Susan Wilschke, Deputy Associate Commissioner for Research, Demonstration, and Employment Support, Office of Retirement and Disability Policy, Social Security Administration, 6401 Security Boulevard, Baltimore, MD 21235-6401, (410) 966-8906, for information about this notice. For information on eligibility or filing for benefits, call our national toll-free number, 1-800-772-1213 or TTY 1-800-325-0778, or visit our Internet site, Social Security Online, at http://www.socialsecurity.gov.

SUPPLEMENTARY INFORMATION:

Purpose

The SSDI program provides financial support for disabled individuals and their dependents. In 2015, the SSDI program provided more than $140 billion in benefits to 10.8 million Americans.¹ Given the large number of individuals who rely on SSDI and the interest in supporting employment efforts of those with disabilities when possible, policymakers need a strong evidentiary base from which to consider future program improvements and innovations that can strengthen the ability of individuals with disabilities to work.

¹ https://www.ssa.gov/OACT/STATS/table4a6.html; https://www.ssa.gov/OACT/STATS/OASDIbenies.html.

This request for information offers interested parties, including States, community-based and other non-profit organizations, philanthropic organizations, researchers, and members of the public, the opportunity to provide information and recommendations on effective approaches for improving employment and earnings outcomes for individuals with musculoskeletal impairments. For the purposes of this notice, “musculoskeletal impairments” means any impairment included in section 1.00 of our Listing of Impairments, 20 CFR part 404, app. 1, affecting the musculoskeletal system and connective tissue. Impairments in this section include, but are not limited to, major joint dysfunction, spinal disorders, amputation, and soft tissue injuries.

Background

Musculoskeletal impairments are the primary diagnosis for 31 percent of all SSDI disabled workers and for 36 percent of disabled workers awarded SSDI in 2014.² A small, growing body of research involving studies of workers compensation and occupational health programs in the United States and in other countries suggests that the withdrawal of individuals with musculoskeletal impairments from the labor force is preventable with appropriate services, such as health care and work supports provided at the onset of a work disruption.

² https://www.ssa.gov/policy/docs/statcomps/di_asr/index.html, Tables 21 and 40.

Researchers and policy experts have suggested that it we may find it useful to conduct a demonstration project related to musculoskeletal impairments. For example, as part of the Committee for a Responsible Federal Budget's (CRFB) SSDI Solutions series, several researchers proposed a demonstration project involving health care and work supports for approximately 12 weeks after an individual's work is disrupted, but before he or she applies for SSDI.³ This proposal notes that musculoskeletal impairments do not necessarily prevent individuals from working if those individuals have appropriate health care and work supports.

³ Jennifer Christian, Thomas Wickizer, and A. Kim Burton, Proposal to the CRFB SSDI Solutions Initiative for a Community-Focused Health and Work Service (HWS) (2015) (available at: http://www.webility.md/SSDI-HWS/Health%20and%20Work%20Service-submitted%20by%20Webility%202015-07-15.pdf).

We expect that public input provided in response to this request will provide us with information that will allow us to determine if a musculoskeletal demonstration project will be useful and, if so, what interventions may be most valuable to consider in the demonstration project design. For example, a demonstration project could test whether coordinating and providing services can have a positive impact on a worker's ability to remain in the workforce. Those services may include case management, care coordination, and communication assistance between the employer, worker, medical providers, and others. Importantly, a potential demonstration project related to musculoskeletal impairments would improve the evidentiary base for future potential SSDI program reforms.

If we decide to pursue a musculoskeletal demonstration project, we would likely issue a contract for demonstration project implementation and evaluation.

Request for Information

Through this notice, we are soliciting feedback from interested parties on the potential value of a demonstration project related to providing health and work supports to individuals with musculoskeletal impairments, and on design aspects of a demonstration project aimed at improving employment and earnings outcomes for these individuals. Responses to this request will inform our decisions about whether to pursue a new demonstration project, and how such a project may be designed. This notice is for our internal planning purposes only and should not be construed as a solicitation or as an obligation on our part or on the part of any participating Federal agencies. We ask respondents to address the following questions, where possible, in the context of the discussion in this document. You do not need to address every question and should focus on those that relate to your expertise or perspectives. To the extent possible, please clearly indicate which question(s) you address in your response.

General Questions

1. What specific programs or practices have shown promise at the State or local level to assist workers with musculoskeletal impairments to remain in or re-enter the workforce?

2. What programs and practices might be especially applicable to individuals who might be enrolled in SSDI in the absence of interventions, and how might those programs and practices be incorporated into a potential demonstration project?

Detailed Questions

I. Target Population and Sites

1. Should we target specific types of musculoskeletal impairments in a demonstration project? If so, which ones, and why those?

2. What is an appropriate age range of individuals with musculoskeletal impairments for us to consider targeting for a demonstration project? Why?

3. Which populations should we consider targeting? How can we identify these populations? How many individuals enter these populations per year?

4. What types of sites (for example, State vocational rehabilitation agencies, medical practices, etc.) would be the most beneficial for us to consider including in a demonstration project?

5. Are there sites we could look to as exemplars based on current practices for serving individuals with musculoskeletal impairments? What evidence exists to suggest these sites are effectively providing early intervention services for workers with musculoskeletal impairments?

6. How might we consider structuring a demonstration project to investigate the potential for screening workers for their likelihood of responding to employment supports?

II. Health Services

7. What types of health services should we consider for workers with musculoskeletal impairments?

8. When should these services be provided?

9. To what extent should we prioritize certain services, whether case management, care coordination, or other on-site work support services?

10. Are there rehabilitative and pain management healthcare delivery models that we should consider combining with other work support services? What specific healthcare practices and models should we avoid or discourage?

11. What are the best ways to involve workers with disabilities in planning and implementing a demonstration project in order to ensure that demonstration project services will be effective in meeting their needs?

12. What health service program designs and interventions demonstrate promise for improving long-term employment outcomes for workers with musculoskeletal impairments? What evidence supports these interventions?

III. Employment and Job-Related Services

13. What specific employment related interventions related to skill development, job training, job placement, or pre- and post-placement services should we consider for individuals with musculoskeletal impairments?

14. What employment program designs and interventions demonstrate promise for improving long-term employment outcomes for workers with musculoskeletal impairments? What evidence supports these interventions?

Guidance for Submitting Documents

We ask that each respondent include the name and address of his or her institution or affiliation, if any, and the name, title, mailing and email addresses, and telephone number of a contact person for his or her institution or affiliation, if any.

Rights to Materials Submitted

By submitting material in response to this notice, you agree to grant us a worldwide, royalty-free, perpetual, irrevocable, nonexclusive license to use the material, and to post it publicly. Further, you agree that you own, have a valid license, or are otherwise authorized to provide the material to us. You should not provide any material you consider confidential or proprietary in response to this notice. We will not provide any compensation for material submitted in response to this notice.

Carolyn W. Colvin,
Acting Commissioner of Social Security.

[FR Doc. 2016-22404 Filed 9-16-16; 8:45 am]

BILLING CODE 4191-02-P